ENVIRONMENTAL PROTECTION AGENCY

[OPPT-2003-0027; FRL-7320-3]

Endocrine Disruptor Methods Validation Subcommittee under the National Advisory Council for Environmental Policy and Technology; Notice of Public Meeting

AGENCY: Environmental Protection Agency (EPA).

ACTION: Notice of public meeting.

SUMMARY: There will be a meeting of the Endocrine Disruptor Methods Validation Subcommittee (EDMVS), a Subcommittee under the National Advisory Council for Environmental Policy and Technology (NACEPT), on August 18-20, 2003. This meeting, as with all EDMVS meetings, is open to the public. Seating is on a first-come basis.

DATES: The meeting will be held on Monday, August 18, 2003, from 1:30 p.m. to 5:45 p.m.; Tuesday, August 19, 2003, from 7:45 a.m. to 2:30 p.m.; and Wednesday, August 20, 2003, from 8 a.m. to 2:45 p.m. mountain daylight time.

Individuals requiring special accommodations at the meeting, including wheelchair access, should contact Jane Smith at the address listed under FOR FURTHER INFORMATION CONTACT at least 5 business days prior to the meeting, so appropriate arrangements can be made.

ADDRESSES: The meeting will be held at The Table Mountain Inn, 1310 Washington, Ave., Golden, CO 80401.

Requests and comments may be submitted electronically, by telephone, fax, or through hand delivery/courier. Follow the detailed instructions as provided in Unit I.C. of the SUPPLEMENTARY INFORMATION.

FOR FURTHER INFORMATION CONTACT: Jane Smith, Designated Federal Official for the EDMVS, Exposure Assessment Coordination and Policy Division (7203M), Office of Science Coordination and Policy, Environmental Protection Agency, 1200 Pennsylvania Ave., NW., Washington, DC 20460-0001; telephone number: (202) 564-8476; fax number: (202) 564-8483; or e-mail address: smith.jane-scott@epa.gov.

SUPPLEMENTARY INFORMATION:

I. General Information

A. Does this Notice Apply to Me?

This action is directed to the public in general. This action may, however, be of interest if you produce, manufacture, use, consume, work with or import pesticide chemicals and other substances. To determine whether you or your business may have an interest in this notice you should carefully examine section 408(p) of the Federal Food, Drug, and Cosmetic Act (FFDCA), as amended by the Food Quality Protection Act (FQPA) of 1996 (Public Law 104-170), 21 U.S.C. 346a(p) and amendments to the Safe Drinking Water Act (SDWA) (Public Law 104-182), 42 U.S.C. 300j-17. Since other entities may also be interested, the Agency has not attempted to describe all the specific entities that may be interested in this action. If you have any questions regarding this action, consult the person listed under FOR FURTHER INFORMATION CONTACT.

B. How Can I Get Additional Information, Including Copies of this Document or Other Related Documents?

1. Docket. EPA has established an official public docket for this action under docket identification (ID) number OPPT-2003-0027. The official public docket consists of the documents specifically referenced in this action, any public comments received, and other related information. Although a part of the official docket, the public docket does not include Confidential Business Information (CBI) or other information whose disclosure is restricted by statute. The official public docket is the collection of materials that are available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0282.

2. Electronic access. A meeting agenda, a list of EDMVS members and information from previous meetings are available electronically, from the EPA Internet Home Page at http://www.epa.gov/scipoly/oscpendo/edmvs.htm. You may also go directly to the “Federal Register” listings at http://www.epa.gov/fedrgstr/.

An electronic version of the public docket is available through EPA's electronic docket and comment system, EPA Dockets. You may use EPA Dockets at http://www.epa.gov/edocket to view public comments, access the index listing of the contents of the official public docket, and to access those documents in the public docket that are available electronically. Once in the system, select “search,” then key in docket ID number OPPT-2003-0027. Although not all docket materials may be available electronically, you may still access any of the publicly available docket materials through the docket facility identified in Unit I.B.I.

C. How Can I Request to Participate in the Meeting?

You may submit a request to participate in the meeting through electronic mail, telephone, fax, or in person. EPA would normally accept requests by mail, but in this time of delays in delivery of government mail due to health and security concerns, EPA cannot assure your request would arrive in a timely manner. Do not submit any information in your request that is considered CBI. Your request must be received by EPA on or before August 12, 2003. To ensure proper receipt by EPA, it is imperative that you identify docket ID number OPPT-2003-0027 in the subject line on the first page of your request.

1. Electronically. You may submit your request to participate electronically. Do not submit any information electronically that you consider to be CBI. Use WordPerfect 6.1/8.0 or ASCII file format and avoid the use of special characters and any form of encryption.

i. EPA Docket. You may use EPA's electronic public docket to submit a request to participate in this meeting. Go to EPA Dockets at http://epa.gov/edocket, and follow the online instructions for submitting materials. Once in the system, select “search,” and then key in docket ID number OPPT-2003-0027.

ii. E-mail. Request to participate may be sent by e-mail to the person listed in FOR FURTHER INFORMATION CONTACT, or directly to the docket at oppt.ncic@epa.gov, Attention: Docket ID Number OPPT-2003-0027.

2. Telephone or fax. Send your request to participate to the individual identified in FOR FURTHER INFORMATION CONTACT.

D. How and to Whom Do I Submit Comments?

In accordance with the Federal Advisory Committee Act (FACA), the public is encouraged to submit written comments on the topic of this meeting. The EDMVS will have a brief period available during the meeting for public comment. It is the policy of the EDMVS to accept written public comments of any length, and to accommodate oral public comments whenever possible. The EDMVS expects that public statements presented at its meeting will be on the meeting topic and not be repetitive of previously submitted oral or written statements.

You may submit comments electronically or through hand delivery/courier. To ensure proper receipt by EPA, identify the appropriate docket ID number in the subject line on the first page of your comment. EPA is not required to consider these late comments. If you wish to submit CBI or information that is otherwise protected by statute, please follow the instructions in Unit I.E. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPPT-2003-0027. The system is an “anonymous access” system, which means EPA will not know your identity, e-mail address, or other contact information unless you provide it in the body of your comment.

ii. E-mail. Comments may be sent by e-mail to oppt.ncic@epa.gov, Attention: Docket ID Number OPPT-2003-0027. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM by courier or package service, such as Federal Express to the address identified in Unit I.D.2. These electronic submissions will be accepted in WordPerfect or ASCII file format. Avoid the use of special characters and any form of encryption.

2. By hand delivery or courier. Deliver your comments to: OPPT Document Control Office (DCO) in EPA East Bldg., Rm. 6428, 1201 Constitution Ave., NW., Washington, DC. Attention: Docket ID Number OPPT-2003-0027. The DCO is open from 8 a.m. to 4 p.m., Monday through Friday, excluding legal holidays. The telephone number for the DCO is (202) 564-8930.

E. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

II. Background

In 1996, through enactment of the Food Quality Protection Act, which amended the Federal Food, Drug, and Cosmetic Act, Congress directed EPA to develop a screening program, using appropriate validated test systems and other scientifically relevant information, to determine whether certain substances may have hormonal effects in humans. In 1996, EPA chartered a scientific advisory committee, the Endocrine Disruptor Screening and Testing Advisory Committee (EDSTAC), under the authority of the Federal Advisory Committee Act (FACA ) to advise it on establishing a program to carry out Congress' directive. EDSTAC recommended a multi-step approach including a series of screens (Tier I screens) and tests (Tier II tests) for determining whether a chemical substance may have an effect in humans similar to that produced by naturally occurring hormones. EPA adopted almost all of EDSTAC's recommendations in the program that it developed, the Endocrine Disruptor Screening Program (EDSP), to carry out Congress' directive.

EDSTAC also recognized that there currently are no validated test systems for determining whether a chemical may have an effect in humans that is similar to an effect produced by naturally occurring hormones. Consequently, EPA is in the process of developing and validating the screens and tests that EDSTAC recommended for inclusion in the EDSP. In carrying out this validation exercise, EPA is working closely with, and adhering to the principles of the Interagency Coordinating Committee for the Validation of Alternate Methods (ICCVAM). EPA also is working closely with the Organization for Economic Cooperation and Development's (OECD) Endocrine Testing and Assessment Task Force to validate and harmonize endocrine screening tests of international interest.

Finally, to ensure that EPA has the best and most up-to-date advice available regarding the validation of the screens and tests in the EDSP, EPA formed the Endocrine Disruptor Methods Validation Subcommittee (EDMVS) of the National Advisory Council for Environmental Policy and Technology (NACEPT). EDMVS provides independent advice and counsel to the Agency through NACEPT, on scientific and technical issues related to validation of the EDSP Tier I screens and Tier II tests, including advice on methods for reducing animal use, refining procedures involving animals to make them less stressful, and replacing animals where scientifically appropriate.

The EDMVS has held seven meetings since its establishment in September 2001. The objectives of the first meeting, which was held in October 2001, (docket control number OPPT-42212D) were for EPA to provide:

1. An overview of EPA's Endocrine Disruptor Program.

2. Background information on test protocol validation and approaches.

3. For the EDMVS to develop a clear understanding of their scope, purpose, and operating procedures.

4. The EDMVS and the EDSP to determine the next steps.

The objectives of the December 2001 meeting (docket control number OPPT-42212E) were for the EDMVS to provide input and advice on:

1. EDMVS's mission statement and work plan.

2. The in utero through lactation assay detailed review paper.

3. The pubertal assay study design for the multi-dose and chemical array protocols.

4. The mammalian one-generation study design.

The objectives of the March 2002 meeting (docket control number 42212F) were for the EDMVS to provide input and advice on:

1. EPA's implementation process and practical aspects of validation.

2. The in utero through lactation assay protocol.

3. The fish reproduction assay detailed review paper.

4. Special studies, the fathead minnow assays, vitellogenin assay, and avian dosing protocol.

5. The steroidogenesis detailed review paper.

6. The aromatase detailed review paper.

7. A proposed standard suite of chemicals for testing in the Tier I screening assays.

8. The current efforts related to evaluating the relevance of animal data to human health.

9. EPA's approach to addressing low dose issues.

The objective of the June 2002 teleconference meeting (docket ID number OPPT-2002-0020) was for the EDMVS to provide input and advice on the steroidogenesis detailed review paper.

The objectives of the July 2002 meeting (docket ID number OPPT-2002-0029) were:

1. To review the screening criteria, recommended by EDSTAC and adopted by EDSP for screens.

2. To receive an update of the National Interagency Center for the Evaluation of Alternate Toxicological Methods (NICEATM) estrogen and androgen receptor binding efforts.

3. To discuss and provide advice on general dose setting issues; and to provide comments and advice on:

• A pubertal--special study--restricted feeding.

• A mammalian 2-generation draft propylthiouracil (PTU) special study.

• An amphibian metamorphosis detailed review paper.

• An invertebrate detailed review paper.

The objective of the December 2002 teleconference meeting (docket ID number OPPT-2002-0059) was for the EDMVS to provide input and advice on the Tier II fish life cycle assay detailed review paper.

The objectives of the June 5-6, 2003 (docket ID number OPPT-2003-0016) were for EDMVS to provide input and advice on:

1. The Tier II mammalian 2-generation special study on the one-generation extension results.

2. The Tier I steroidogenesis (sliced testes) study results.

3. The Tier I pre-optimization, substrate characterization for aromatase placental tissue study.

III. Objectives of the August 18-20, 2003 Meeting

The objectives of the August 18-20 meeting (docket ID number OPPT-2003-0027) are to:

1. Review and discuss the status/results of the prevalidation work on:

• The fish screening assay, specifically: The survey of vitellogenin methods in fathead minnow, zebrafish and medaka; the comparative evaluation of the fathead minnow assays; and the fish screen (non-spawning) assay.

• The steroidogenesis assay optimized protocol.

2. Provide input and advice on the:

• EDSP's validation plans for the fish screening assay and steroidogenesis assay.

• Strain/species white paper.

• Chemicals used in EDSP's prevalidation and validation.

• Avian detailed review paper.

• Issues related to the pubertal assays.

3. Receive an update on the amphibian workshop conducted recently.

A list of the EDMVS members and meeting materials are available on our web site (http://www.epa.gov/scipoly/oscpendo/edmvs.htm) and in the public docket.

List of Subjects

Environmental protection, Endocrine system, Endocrine disruptors, Endocrine disruptor screening program.

Dated: July 23, 2003.
Kathryn R. Mahaffey,
Acting Director, Office of Science Coordination and Policy, Office of Prevention, Pesticides and Toxic Substances.

[FR Doc. 03-19359 Filed 7-29-03; 8:45 am]

BILLING CODE 6560-50-S